DEPARTMENT OF THE INTERIOR

National Park Service

[NPS-WASO-NAGPRA-NPS0036140; PPWOCRADN0-PCU00RP14.R50000]

Notice of Inventory Completion: Robert S. Peabody Institute of Archaeology, Andover, MA

AGENCY: National Park Service, Interior.

ACTION: Notice.

SUMMARY: In accordance with the Native American Graves Protection and Repatriation Act (NAGPRA), the Robert S. Peabody Institute of Archaeology has completed an inventory of human remains and associated funerary objects and has determined that there is a cultural affiliation between the human remains and associated funerary objects and Indian Tribes or Native Hawaiian organizations in this notice. The human remains and associated funerary objects were removed from Barnstable and Plymouth Counties, MA.

DATES: Repatriation of the human remains and associated funerary objects in this notice may occur on or after August 7, 2023.

ADDRESSES: Ryan J. Wheeler, Robert S. Peabody Institute of Archaeology, Phillips Academy, 180 Main Street, Andover, MA 01810, telephone (978) 749-4490, email rwheeler@andover.edu.

SUPPLEMENTARY INFORMATION: This notice is published as part of the National Park Service's administrative responsibilities under NAGPRA. The determinations in this notice are the sole responsibility of the Robert S. Peabody Institute of Archaeology. The National Park Service is not responsible for the determinations in this notice. Additional information on the determinations in this notice, including the results of consultation, can be found in the inventory or related records held by the Robert S. Peabody Institute of Archaeology.

Description

Two associated funerary objects were removed from the Corn Hill site (19-BN-144/145) in Truro, Barnstable County, MA. In 2023, the Buttonwoods Museum, Haverhill MA, transferred two red ochre samples to the Robert S. Peabody Institute of Archaeology to facilitate repatriation. Fred Luce collected the samples during his excavation of the site in 1915. The Robert S. Peabody Institute of Archaeology previously published a Notice of Inventory Completion in the Federal Register (70 FR 16839-16840, April 1, 2005) for human remains and associated funerary objects from Corn Hill, and they have already been repatriated. The two associated funerary objects listed in this notice are two red ochre samples that most likely are associated with the repatriated human remains and funerary objects.

One associated funerary object was removed from the Taylor Hill site (19-BN-106) in Wellfleet, Barnstable County, MA. In 2023, during preparation for a building renovation, personnel at the Robert S. Peabody Institute of Archaeology identified a large stone axe from the Taylor Hill site; a note with the axe indicates a funerary association. The Robert S. Peabody Institute of Archaeology previously published a Notice of Inventory Completion in the Federal Register (70 FR 16839-16840, April 1, 2005) for human remains and associated funerary objects from Taylor Hill, and they have already been repatriated. The one associated funerary object listed in this notice is a stone axe that most likely is associated with the repatriated human remains and funerary objects.

Human remains representing, at minimum, one individual were removed from the Titicut site in Plymouth County, MA. In 2022, during an inventory, personnel at the Robert S. Peabody Institute of Archaeology identified additional human remains and associated funerary objects from the Titicut site, which had been excavated by institute staff members in 1947. The human remains of one individual were reported in a previous Notice of Inventory Completion published in the Federal Register (60 FR 8733, February 15, 1995), and they have already been repatriated. The human remains listed in this notice consist of one tooth. The one associated funerary object are the remains of a dog that was interred near the individual.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, archeological, linguistic, oral traditional, and historical.

Determinations

Pursuant to NAGPRA and its implementing regulations, and after consultation with the appropriate Indian Tribes and Native Hawaiian organizations, the Robert S. Peabody Institute of Archaeology has determined that:

• The human remains described in this notice represent the physical remains of one individual of Native American ancestry.

• The four objects described in this notice are reasonably believed to have been placed with or near individual human remains at the time of death or later as part of the death rite or ceremony.

• There is a relationship of shared group identity that can be reasonably traced between the human remains and associated funerary objects described in this notice and the Mashpee Wampanoag Indian Tribe, and the Wampanoag Tribe of Gay Head (Aquinnah).

Requests for Repatriation

Written requests for repatriation of the human remains and associated funerary objects in this notice must be sent to the Responsible Official identified in ADDRESSES. Requests for repatriation may be submitted by:

1. Any one or more of the Indian Tribes identified in this notice and, if joined to a request from one or more of the Indian Tribes, the Assonet Band of the Wampanoag Nation, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 7, 2023. If competing requests for repatriation are received, the Robert S. Peabody Institute of Archaeology must determine the most appropriate requestor prior to repatriation. Requests for joint repatriation of the human remains and associated funerary objects are considered a single request and not competing requests. The Robert S. Peabody Institute of Archaeology is responsible for sending a copy of this notice to the Indian Tribes identified in this notice.

Authority: Native American Graves Protection and Repatriation Act, 25 U.S.C. 3003, and the implementing regulations, 43 CFR 10.9, 10.10, and 10.14.

Dated: June 28, 2023.
Melanie O'Brien,
Manager, National NAGPRA Program.

[FR Doc. 2023-14390 Filed 7-6-23; 8:45 am]

BILLING CODE 4312-52-P